DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

2004 Inventory of Mental Health Organizations, General Hospital Mental Health Services, and Managed Care Organizations Survey (IMHO)—(OMB No. 0930-0119)—Revision

The 2004 IMHO will be conducted by the Substance Abuse and Mental Health Services Administration's (SAMHSA) Center for Mental Health Services (CMHS). The design of the 2004 IMHO will be different from the 1998, 2000, and 2002 surveys. For 2004, we will return to just one data collection phase. This single phase, used by all surveys prior to 1998, will be a 100% enumeration of all known mental health organizations. The 2004 IMHO will utilize five separate questionnaires: (1) The Mental Health Organization Inventory; (2) The General Hospital Inventory; (3) The General Hospital Screener; (4) The Community Residential Organization Screener; and (5) The Managed Behavioral Healthcare Organization questionnaire.

Organizational data, to be collected by the Inventory questionnaires, include service categories, client/patient census by basic demographics, revenues, expenditures, and staffing. The purpose of the two screener questionnaires will be to confirm whether direct and separate mental health services are being provided in these organizations.

The resulting data base will be used to provide national estimates and will be the basis of the National Directory of Mental Health Services. In addition, data derived from the survey will be published by CMHS in Data Highlights, in Mental Health, United States, and in professional journals such as Psychiatric Services and the American Journal of Psychiatry. The publication Mental Health, United States is used by the general public, State governments, the U.S. Congress, university researchers, and other health care professionals. The following Table summarizes the burden for the survey.

Estimated Total Response Burden for the 2004 Inventory of Mental Health
Organizations types | Number of respondents | Responses per respondent | Average hours per response | Total hour Burden
Specialty Mental Health Organizations | 2,915 | 1 | 3 | 8,745
General Hospitals with Separate Psychiatric Units | 1,439 | 1 | 3 | 4,317
General Hospitals without Separate Psychiatric Units | 3,460 | 1 | 0.25 | 865
Community Residential Organizations | 1,611 | 1 | 0.25 | 403
Managed Behavioral Healthcare Orgs | 265 | 1 | 0.50 | 133
Total | 9,690 |  |  | 14,463

Written comments and recommendations concerning the proposed information collection should be sent by April 20, 2005, to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: March 4, 2005.
Patricia S. Bransford,
Acting Executive Officer, SAMHSA.

[FR Doc. 05-5497 Filed 3-18-05; 8:45 am]

BILLING CODE 4162-20-P